DEPARTMENT OF HOMELAND SECURITY

Coast Guard

46 CFR Part 67

[USCG-2007-28098]

RIN 1625-AB18

Vessel Documentation; Recording of Instruments

AGENCY: Coast Guard, DHS.

ACTION: Direct final rule; confirmation of effective date.

SUMMARY: On August 2, 2007, we published a direct final rule. The direct final rule notified the public of our intent to amend vessel documentation regulations to eliminate the requirement to provide certain original documents to the National Vessel Documentation Center (NVDC) for recording, and to eliminate the additional fee for filing by facsimile. We have not received an adverse comment, or notice of intent to submit an adverse comment, on the rule. Therefore, the rule will go into effect as scheduled.

DATES: The effective date of the direct final rule published at 72 FR 42310, August 2, 2007, is confirmed as October 31, 2007.

FOR FURTHER INFORMATION CONTACT: Mr. Thomas L. Willis, Director, National Vessel Documentation Center, U.S. Coast Guard, telephone (304) 271-2506.

SUPPLEMENTARY INFORMATION: We undertook this rulemaking to conform our business practices with similar functions provided by other governmental entities and to allow our customers to avail themselves of better service through electronic filing. This rulemaking is expected to improve efficiency at the NVDC and permit the use of improved information collection technology.

Dated: October 11, 2007.
Stefan G. Venckus,
Chief, Office of Regulations and Administrative Law, United States Coast Guard.

[FR Doc. E7-20434 Filed 10-16-07; 8:45 am]

BILLING CODE 4910-15-P